DEPARTMENT OF DEFENSE

Department of the Army

[Docket ID USA-2020-HQ-0007]

Proposed Collection; Comment Request

AGENCY: U.S. Army Corps of Engineers (USACE), DoD.

ACTION: Information collection notice.

SUMMARY: In compliance with the Paperwork Reduction Act of 1995, the U.S. Army Corps of Engineers, announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 6, 2020.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to U.S. Army Corps of Engineers, Office of Homeland Security, 441 G Street NW, ATTN: Stephanie Bray, Washington, DC 20314-1000, or contact Stephanie Bray, Office of Homeland Security, by email at Stephanie.N.Bray@usace.army.mil or by phone at 202-761-4827.

SUPPLEMENTARY INFORMATION:

Title; Associated Form; and OMB Number: Silver Jackets Program Nomination and Awards; Nomination Form Eng Form 6128; OMB Control Number 0710-SJAP.

Needs and Uses: The information collection request is necessary to obtain input and feedback into the successes of various Silver Jackets State Teams deserving of recognition through annual awards. The form provides a means of nominating teams for consideration and can be filled out by State government employees. State government employees are also asked to vote for the nominated team most deserving of recognition after the nomination phase is complete.

Affected Public: Individual or household.

Annual Burden Hours: 27 hours.

Number of Respondents: 54.

Responses per Respondent: 2.

Annual Responses: 108.

Average Burden per Response: 30 minutes.

Frequency: Annually.

Call for Nominations is issued annually to request nominations for the Silver Jackets State Team of the Year award. Because the Silver Jackets program is not a USACE-only program, but an intergovernmental partnership program, incorporating input and feedback from our State partners is critical to recognizing the accomplishments of the teams. There are two information collection requests associated with the Silver Jackets State Team of the Year award. Respondents to both are State government employees who partner with USACE on Silver Jackets State Teams. Silver Jackets is an innovative program that provides States with an opportunity to consistently coordinate with multiple state, federal, and sometimes tribal and local agencies to learn from one another and implement flood risk reduction. The first information collection request is for the nomination of teams for consideration. The second information collection request is to cast votes for the winning team from among those teams that were previously nominated. Eng Form 6128, which will be submitted electronically, is the nomination form. The second information collection request does not have an associated form. In this information collection request, each Silver Jackets State Team is provided with a number of votes that they can cast for one or more of the previously nominated teams, and voting is conducted through a website.

Dated: May 4, 2020.
Aaron T. Siegel,
Alternate OSD Federal Register Liaison Officer, Department of Defense.

[FR Doc. 2020-09786 Filed 5-6-20; 8:45 am]

BILLING CODE 5001-06-P